DEPARTMENT OF COMMERCE

International Trade Administration

Initiation of Antidumping and Countervailing Duty Administrative Reviews and Request for Revocation in Part

AGENCY: Import Administration, International Trade Administration, Department of Commerce.

SUMMARY: The Department of Commerce (the Department) has received requests to conduct administrative reviews of various antidumping and countervailing duty orders and findings with December anniversary dates. In accordance with our regulations, we are initiating those administrative reviews. The Department also received a request to revoke one antidumping duty order in part.

EFFECTIVE DATE: January 28, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2004), for administrative reviews of various antidumping and countervailing duty orders and findings with December anniversary dates. The Department also received a timely request to revoke in part the antidumping duty order on Honey from Argentina with respect to one exporter.

Initiation of Reviews

In accordance with section 19 CFR 351.221(c)(1)(i), we are initiating administrative reviews of the following antidumping and countervailing duty orders and findings. We intend to issue the final results of these reviews not later than December 31, 2008.

| Period to be reviewed
Antidumping Duty Proceedings
Argentina: Honey, A-357-812 | 12/01/06-11/30/07
AGLH S.A.
Algodonera Avellaneda S.A.
Asociacion de Cooperativas Argentinas.
Bomare S.A. (Bodegas Miguel Armengol).
Compania Apicola Argentina S.A.
Compania Inversora Platense S.A.
El Mana S.A.
HoneyMax S.A.
Mercoline S.A.
Mielar S.A.
Nexco S.A.
Patagonik S.A.
Productos Afer S.A.
Seabird Argentina S.A.
Seylinco, S.A.
India: Carbazole Violet Pigment 23, A-533-838 | 12/1/06-11/30/07
Alpanil Industries Limited.
Pidilite Industries Limited.
Certain Hot-Rolled Carbon Steel Flat Products, A-533-820 | 12/1/06-11/30/07
Essar Steel Limited.
Ispat Industries Limited.
JSW Steel Limited.
Tata Steel Limited.
South Korea: Welded ASTM A-312 Stainless Steel Pipe, A-580-810 | 12/1/06-11/30/07
SeAH.
The People's Republic of China: Carbazole Violet Pigment 23,¹ A-570-892 | 12/1/06-11/30/07
Aesthetic Colortech (Shanghai) Company, Limited.
Anhui Worldbest IE Company, Limited.
Cidic Company, Limited.
Ganguink Group, Pigment Division.
Goldlink Industries Company, Limited.
Hunan Sunlogistics International Company, Limited.
Hygeia-Chem (Shanghai) Company, Limited.
Nantong Haidi Chemical Company, Limited.
Pudong Prime International Logistic Incorporated.
Shanghai Rainbow Dyes Import & Export.
Sinocol Corporation, Limited.
Tianjin Hanchem International Trading Company, Limited.
Trust Chem Company, Limited.
Yancheng Tiacheng Chemical Company, Limited.
Certain Cased Pencils,² A-570-827 | 12/1/06-11/30/07
Anhui Import & Export Co., Ltd.
Beijing Dixon Stationery Company Ltd.
China First Pencil Co., Ltd.
Guangdong Provincial Stationery & Sporting Goods Import & Export Corporation.
Orient International Holding Shanghai Foreign Trade Corporation.
Shandong Rongxin Import & Export Co., Ltd.
Shanghai Three Star Stationary Industry Co., Ltd.
Tianjin Custom Wood Processing Co., Ltd.
Three Star Stationery Industry Corp.
Hand Trucks and Parts Thereof,³ A-570-891 | 12/1/06-11/30/07
Qingdao Taifa Group Co., Ltd.
True Potential Co., Ltd.
New-Tec Integration (Xiamen) Co., Ltd.
Since Hardware (Guangzhou) Co., Ltd.
Honey,⁴ A-570-863 | 12/1/06-11/30/07
Alfred L. Wolff (Beijing) Co., Ltd.
Anhui Honghui Foodstuff (Group) Co., Ltd.
Anhui Native Produce Imp & Exp Corp.
Cheng Du Wai Yuan Bee Products Co., Ltd.
Chengdu Stone Dynasty Art Stone.
Dongtai Peak Honey Industry Co., Ltd.
Eurasia Bee's Products Co., Ltd.
Golden Tadco Int'l.
Hangzhou Golden Harvest Health Industry Co., Ltd.
Hanseatische Nahrungsmittel Fabrik R Import-Export GMBH.
Haoliluck Co., Ltd.
Hubei Yusun Co., Ltd.
Inner Mongolia Altin Bee-Keeping.
Inner Mongolia Youth Trade Development Co., Ltd.
Jiangsu Kanghong Natural Healthfoods Co., Ltd.
Jiangsu Light Industry Products Imp & Exp (Group) Corp.
Mgl Yung Sheng Honey Co., Ltd. (also DBA Fresh Honey Co., Ltd.).
Nefelon Limited Company.
OEI International Inc.
Qingdao Aolan Trade Co., Ltd.
QHD Sanhai Honey Co., Ltd.
Qinhuangdao Municipal Dafeng Industrial Co., Ltd.
Shanghai Bloom International Trading Co., Ltd.
Shanghai Foreign Trade Co., Ltd.
Shanghai Hui Ai Mal Tose Co., Ltd.
Shanghai Taiside Trading Co., Ltd.
Sichuan-Dujiangyan Dubao Bee Industrial Co., Ltd.
Tianjin Eulia Honey Co., Ltd.
Wuhan Bee Healthy Co., Ltd.
Wuhan Shino-Food Trade Co., Ltd.
Wuhu Qinshi Tangye.
Xinjiang Jinhui Food Co., Ltd.
Malleable Cast Iron Pipe Fittings,⁵ A-570-881 | 12/1/06-11/30/07
Beijing Sai Lin Ke Hardware Co., Ltd.
Mueller Comercial de Mexico, S. de R.L. de C.V.
Porcelain-on-Steel Cooking Ware,⁶ A-570-506 | 12/1/06-11/30/07
Xiamen Songson Plastic Hardware Co., Ltd.
Pure Magnesium,⁷ A-570-832 | 5/1/06—4/30/07
Tianjin Magnesium International Co., Ltd.
Countervailing Duty Proceedings
India: Carbazole Violet Pigment 23, C-533-839 | 1/1/06-12/31/06
Alpanil Industries Limited.
Pidilite Industries Limited.
Certain Hot-Rolled Carbon Steel Flat Products, C-533-821 | 1/1/07-12/31/07
Essar Steel Ltd.
Ispat Industries Limited.
JSW Steel Limited.
Tata Steel Limited.
¹ If one of the above named companies does not qualify for a separate rate, all other exporters of Carbazole Violet Pigment 23 from the People's Republic of China who have not qualified for a separate rate are deemed to be covered by this review as part of the single PRC entity of which the named exporters are a part.
² If one of the above named companies does not qualify for a separate rate, all other exporters of Certain Cased Pencils from the People's Republic of China who have not qualified for a separate rate are deemed to be covered by this review as part of the single PRC entity of which the named exporters are a part.
³ If one of the above named companies does not qualify for a separate rate, all other exporters of Hand Trucks and Parts Thereof from the People's Republic of China who have not qualified for a separate rate are deemed to be covered by this review as part of the single PRC entity of which the named exporters are a part.
⁴ If one of the above named companies does not qualify for a separate rate, all other exporters of Honey from the People's Republic of China who have not qualified for a separate rate are deemed to be covered by this review as part of the single PRC entity of which the named exporters are a part.
⁵ If one of the above named companies does not qualify for a separate rate, all other exporters of Malleable Cast Iron Pipe Fittings from the People's Republic of China who have not qualified for a separate rate are deemed to be covered by this review as part of the single PRC entity of which the named exporters are a part.
⁶ If one of the above named companies does not qualify for a separate rate, all other exporters of Porcelain-on-Steel Cooking Ware from the People's Republic of China who have not qualified for a separate rate are deemed to be covered by this review as part of the single PRC entity of which the named exporters are a part.
⁷ On June 29, 2007, (72 FR 35693), we deferred this review for one year. However, Petitioner timely filed an objection to the deferral. Consequently, we have determined not to defer this review. Please see: Memorandum to the File: Granting Petitioner an Extension of Time to File an Objection to Respondent's Deferral Request, dated September 26, 2007.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 22, 2008.
Stephen J. Claeys,
Deputy Assistant Secretary for Import Administration.

[FR Doc. E8-1440 Filed 1-25-08; 8:45 am]

BILLING CODE 3510-DS-P